DEPARTMENT OF COMMERCE

International Trade Administration

[A-570-042]

Stainless Steel Sheet and Strip From the People's Republic of China: Postponement of Final Determination of Sales at Less Than Fair Value Investigation

AGENCY: Enforcement and Compliance, International Trade Administration, Department of Commerce.

SUMMARY: The Department of Commerce (Department) is postponing the deadline for issuing final determination in the less than fair value (LTFV) investigation of stainless steel sheet and strip from the People's Republic of China (PRC) and is extending the provisional measures from a four-month period to a period not more than six months.

DATES: Effective October 21, 2016.

FOR FURTHER INFORMATION CONTACT: Toni Page at (202) 482-1398 or Lingjun Wang at (202) 482-2316, Antidumping and Countervailing Duty Operations, Office VII, Enforcement and Compliance, International Trade Administration, U.S. Department of Commerce, 14th Street and Constitution Avenue NW., Washington, DC 20230.

SUPPLEMENTARY INFORMATION:

Background

On March 10, 2016, the Department published a notice of initiation of the LTFV investigation of the stainless steel sheet and strip from the PRC.¹ The period of investigation is July 1, 2015, through December 31, 2015. On September 9, 2016, the Department issued its affirmative Preliminary Determination.² On September 14, 2016, Shanxi Taigang Stainless Steel Co., Ltd. (Taigang), a mandatory respondent in this investigation, requested that the Department fully extend the deadline for the final determination, and extend the application of the provisional measures from a four-month period to a period not more than six months.³ On September 19, 2016, the Department published the Preliminary Determination.⁴

¹ See Stainless Steel Sheet and Strip From the People's Republic of China: Initiation of Less Than Fair Value Investigation, 81 FR 12711 (March 10, 2016).

² See Stainless Steel Sheet and Strip from the People's Republic of China: Preliminary Affirmative Determination of Sales at Less Than Fair Value and Preliminary Affirmative Determination of Critical Circumstances, 81 FR 64135 (September 19, 2016) (Preliminary Determination).

³ See Taigang's September 14, 2016 letter.

⁴ See Preliminary Determination.

Postponement of Final Determination

Section 735(a)(2)(A) of the Tariff Act of 1930, as amended (the Act), and 19 CFR 351.210(b)(2)(ii), provide that a final determination may be postponed until not later than 135 days after the date of the publication of the preliminary determination if, in the event of an affirmative preliminary determination, a request for such postponement is made by exporters who account for a significant proportion of exports of the subject merchandise. Further, 19 CFR 351.210(e)(2) requires that such postponement requests by exporters be accompanied by a request for extension of provisional measures from a four-month period to a period not more than six months, in accordance with section 733(d) of the Act.

In accordance with section 735(a)(2)(A) of the Act and 19 CFR 351.210(b)(2)(ii), because (1) our preliminary determination was affirmative; (2) the requesting producer/exporter, Taigang, accounts for a significant proportion of exports of the subject merchandise from the PRC; and (3) no compelling reasons for denial exist, we are postponing the final determination until no later than 135 days after the date of the publication of the Preliminary Determination and extending the provisional measures from a four-month period to a period not more than six months. Accordingly, we will issue our final determination no later than February 1, 2017.

This determination is issued and published pursuant to section 735(a)(2)(A) of the Act and 19 CFR 351.210(g).

Dated: October 14, 2016.
Paul Piquado,
Assistant Secretary for Enforcement and Compliance.

[FR Doc. 2016-25552 Filed 10-20-16; 8:45 am]

BILLING CODE 3510-DS-P